DEPARTMENT OF HOUSING AND URBAN DEVELOPMENT

[Docket No. 5415-FA-19]

Announcement of Funding Awards; Public and Indian Housing Family Self-Sufficiency Program Under the Resident Opportunity and Self-Sufficiency (ROSS) Program; Fiscal Year (FY) 2010

AGENCY: Office of Public and Indian Housing, HUD.

ACTION: Announcement of funding awards.

SUMMARY: In accordance with Section 102(a)(4)(C) of the Department of Housing and Urban Development Reform Act of 1989 this announcement notifies the public of funding decisions made by the Department in a competition for funding under the FY2010 Notice of Funding Availability (NOFA) for the Public and Indian Housing Family Self-Sufficiency Program Under the Resident Opportunity and Self-Sufficiency (ROSS) Program (PH-FSS). This announcement contains the consolidated names and addresses of the award recipients for this year under the PH-FSS Program.

FOR FURTHER INFORMATION CONTACT: Andrea Edmond, Grants Management Center, Office of Public and Indian Housing, Department of Housing and Urban Development, Grants Management Center, 451 7th Street, SW., B-133, POC 3rd Floor, Washington, DC 20410, telephone telephone number 202-475-8851. Hearing or speech-impaired individuals may access this number via TTY by calling the toll-free Federal Relay Service at (800) 877-8339.

SUPPLEMENTARY INFORMATION: The PH-FSS program provides grants to Public Housing Authorities (PHAs), and Tribes/Tribally designated housing entities (TDHEs) that administer a PH-FSS program to help them make progress toward housing self-sufficiency. More specifically, the PH-FSS program promotes the development of local strategies to coordinate the use of assistance under the Public Housing program with public and private resources, enables participating families to increase earned income and financial literacy, reduce or eliminate the need for welfare assistance, and make progress toward achieving economic independence and housing self-sufficiency.

The FY2010 awards announced in this notice identify applicants that were selected for funding in a competition posted on HUD's Web site on October 21, 2010. Applications were reviewed and selected based on meeting threshold criteria in the PH-FSS NOFA, which made approximately $15 million available for distribution.

In accordance with Section 102 (a)(4)(C) of the Department of Housing and Urban Development Reform Act of 1989 (103 Stat.1987, 42 U.S.C. 3545), the Department is publishing the names, addresses, and amounts of the 242 awards made under the competition in Appendix A to this notice.

Dated: August 16, 2011.
Sandra B. Henriquez,
Assistant Secretary for Public and Indian Housing.

Appendix A—List of Public and Indian Housing Family Self-Sufficiency Program Under the Resident Opportunity for Self-Sufficiency (ROSS) Program (PH-FSS) NOFA Grantees for Fiscal Year 2010
Recipient | Address | City | State | Zip code | Amount
Alaska Housing Finance Corporation | P.O. Box 101020 | Anchorage | AK | 99510 | $69,000
Alexander City Housing Authority | 2110 County Road | Tallapoosa | AL | 35010 | 39,936
Housing Authority of the Birmingham District | 1826 3rd Avenue South | Birmingham | AL | 35255 | 69,000
Huntsville Housing Authority | 200 Washington Street | Huntsville | AL | 35804 | 55,500
Jefferson County Housing Authority | 3700 Industrial Parkway | Birmingham | AL | 35217 | 55,666
Mobile Housing Authority | 151 South Claiborne Street | Mobile | AL | 36602 | 46,926
Tuscaloosa Housing Authority | 2808 10th Avenue | Tuscaloosa | AL | 35401 | 41,042
Housing Authority of the City of Hot Springs | 1004 Illinois Street | Hot Springs | AR | 71901 | 27,390
Housing Authority of the City of North Little Rock, Arkansas | 2201 Division | North Little Rock | AR | 72114 | 40,629
Housing Authority of the City of West Memphis | 2820 Harrison Street | West Memphis | AR | 72364 | 42,652
City of Phoenix Housing Department | 251 West Washington, 4th Floor | Phoenix | AZ | 85003 | 69,000
City of Tucson | P.O. Box 27210, 310 North Commerce Park Loop | Tucson | AZ | 85726 | 68,680
Housing Authority of Maricopa County | 2024 North 7th Street | Phoenix | AZ | 85006 | 69,000
Housing Authority of the City of Yuma | 420 South Madison Avenue | Yuma | AZ | 85364 | 62,458
Yuma County Housing Department | 8450 West Highway 95, Suite 88 | Somerton | AZ | 85350 | 56,000
Bear River Band Rohnerville Rancheria | 27 Bear River Drive | Loleta | CA | 95551 | 69,000
City of Sacramento Housing Authority | 801 12th Street | Sacramento | CA | 94814 | 69,000
County of Sacramento Housing Authority | 801 12th Street | Sacramento | CA | 94814 | 69,000
Housing Authority of the City of San Buenaventura | 995 Riverside Street | Ventura | CA | 93001 | 69,000
Housing Authority of the City of San Luis Obispo | 487 Leff Street | San Luis Obispo | CA | 93401 | 54,622
Housing Authority of the City of Santa Barbara | 808 Laguna Street | Santa Barbara | CA | 93101 | 66,950
Housing Authority of the County of Kern | 601-24th Street | Bakersfield | CA | 93301 | 62,804
Housing Authority of the County of Marin | 4020 Civic Center Drive | San Rafael | CA | 94903 | 68,959
Housing Authority of the County of San Bernardino | 715 East Brier Drive | San Bernardino | CA | 92408 | 69,000
Housing Authority of the County of San Joaquin | 448 South Center Street | Stockton | CA | 95203 | 120,442
Housing Authority of the County of Santa Cruz | 2931 Mission Street | Santa Cruz | CA | 95060 | 69,000
Housing Authority of the County of Stanislaus | P.O. Box 581918, 1701 Robertson Road | Modesto | CA | 95358 | 65,000
Madera, City of | 205 North G Street | Madera | CA | 93637 | 54,368
Oxnard Housing Authority | 435 South D Street | Oxnard | CA | 93030 | 69,000
The Housing Authority of the County of Los Angeles | 2 Coral Circle | Monterey Park | CA | 91755 | 69,000
Boulder Housing Partners aba Housing Authority, City of Boulder | 4800 Broadway | Boulder | CO | 80304 | 69,000
Fort Collins Housing Authority | 1715 West Mountain Avenue | Fort Collins | CO | 80521 | 69,000
Housing Authority of the City & County of Denver | 777 Grant Street | Denver | CO | 80203 | 243,230
Housing Authority of Ansonia | 36 Main Street | Ansonia | CT | 6401 | 69,000
Housing Authority of New Britain | 16 Armistice Street | New Britain | CT | 6053 | 69,000
Housing Authority of Stamford | 22 Clinton Avenue | Stamford | CT | 6901 | 66,950
Housing Authority of the City of Meriden | 22 Church Street | Meriden | CT | 6451 | 58,539
Housing Authority of the City of New Haven | 360 Orange Street | New Haven | CT | 6511 | 58,896
Housing Authority of the City of Norwalk | 24½ Monroe Street | Norwalk | CT | 6856 | 69,000
Fort Pierce Housing Authority | 511 Orange Avenue | Fort Pierce | FL | 34950 | 45,337
Hialeah Housing Authority | 75 East 6th Street | Hialeah | FL | 33010 | 40,293
Housing Authority of Brevard County | 1401 Guava Avenue | Melbourne | FL | 32935 | 55,222
Housing Authority of Lakeland | 430 Hartsell Avenue | Lakeland | FL | 33815 | 52,084
Housing Authority of the City of Fort Myers | 4224 Renaissance Preserve Way | Fort Myers | FL | 33916 | 60,092
Housing Authority of the City of Tampa | 1514 Union Street | Tampa | FL | 33607 | 65,593
Jacksonville Housing Authority | 1300 Broad Street | Jacksonville | FL | 32202 | 45,867
Lee County Housing Authority | 14170 Warner Circle | North Fort Myer | FL | 33903 | 48,801
Manatee County Housing | 5631 11th Street East | Bradenton | FL | 34203 | 62,620
Pinellas County Housing Authority | 11479 Ulmerton Road | Largo | FL | 33778 | 69,000
Sarasota Housing Authority | 40 South Pineapple Avenue | Sarasota | FL | 34236 | 47,741
Tallahassee Housing Authority | 2940 Grady Road | Tallahassee | FL | 32312 | 29,383
The Housing Authority of the City of Daytona Beach | 211 North Ridgewood Avenue, Suite 300 | Daytona Beach | FL | 32114 | 45,020
The West Palm Beach Housing Authority | 1715 Division Avenue | West Palm Beach | FL | 33407 | 40,206
Griffin Housing Authority | 518 Nine Oaks Drive | Griffin | GA | 30224 | 68,000
Housing Authority of Columbus, Georgia | P.O. Box 630, 1000 Wynnton Road | Columbus | GA | 31902 | 46,350
Housing Authority of Savannah | 1407 Wheaton Street | Savannah | GA | 31404 | 69,000
Housing Authority of the City of Albany, GA | P.O. Box 485, 521 Pine Avenue | Albany | GA | 31702 | 30,836
Housing Authority of the City of Carrollton | 1 Roop Street | Carrollton | GA | 30117 | 61,074
Macon Housing Authority | 2015 Felton Avenue | Macon | GA | 31201 | 63,368
Northwest Georgia Housing Authority | 800 North Fifth Avenue | Rome | GA | 30162 | 45,976
The Housing Authority of the City of Marietta | P.O. Drawer K, 95 Cole Street N.E | Marietta | GA | 30061 | 57,070
Tri-City Housing Authority | P.O. Box 220, 33 Martin Luther King Jr. Drive | Woodland | GA | 31836 | 69,000
City of Des Moines Municipal Housing Agency | 100 East Euclid Avenue, Suite 101 | Des Moines | IA | 50313 | 32,024
Eastern Iowa Regional Housing Authority | 7600 Commerce Park | Dubuque | IA | 52002 | 66,746
Nampa Housing Authority | 211-19th Avenue North | Nampa | ID | 83687 | 36,342
Chicago Housing Authority | 60 East Van Buren | Chicago | IL | 60605 | 57,962
Housing Authority of Elgin | 120 South State Street | Elgin | IL | 60123 | 69,000
Housing Authority of Greene County | P.O. Box 336, 325 North Carr Street | White Hall | IL | 62092 | 45,910
Housing Authority of Henry County | 125 North Chestnut Street | Kewanee | IL | 61443 | 48,918
Macoupin County Housing Authority | P.O. Box 226, 760 Anderson Street | Carlinville | IL | 62626 | 42,616
Peoria Housing Authority | 100 South Richard Pryor Place | Peoria | IL | 61605 | 49,515
Rock Island Housing Authority | 227 21st Street | Rock Island | IL | 61201 | 65,000
Rockford Housing Authority | 223 South Winnebago Street | Rockford | IL | 61102 | 68,964
Springfield Housing Authority | 200 North Eleventh Street | Springfield | IL | 62703 | 39,000
The Housing Authority of the County of Lake | 33928 North Route 45 | Grayslake | IL | 60030 | 69,000
Fort Wayne Housing Authority | P.O. Box 13489, 7315 Hanna Street | Fort Wayne | IN | 46869 | 40,000
Housing Authority of the City of Elkhart | 1396 Benham Avenue | Elkhart | IN | 46516 | 40,982
Housing Authority of the City of Michigan City | 621 East Michigan Boulevard | Michigan City | IN | 46360 | 42,616
Housing Authority of the City of Terre Haute | P.O. Box 3086, 2001 North 19th Street | Terre Haute | IN | 47803 | 64,188
Housing Authority of the County of Delaware, Indiana | 2401 South Haddix Avenue | Muncie | IN | 47302 | 49,764
Indianapolis Housing Agency | 1919 North Meridian Street | Indianapolis | IN | 46202 | 45,000
New Albany Housing Authority | P.O. Box 11 | New Albany | IN | 47150 | 114,000
Lawrence-Douglas County Housing Authority | 1600 Haskell Avenue | Lawrence | KS | 66044 | 81,456
Salina Housing Authority | 469 South 5th | Salina | KS | 67402 | 60,101
Housing Authority of Bowling Green | 247 Double Springs Road | Bowling Green | KY | 42101 | 47,740
Housing Authority of Glasgow | P.O. Box 1745, 111 Bunche Avenue | Glasgow | KY | 42142 | 40,631
Louisville Metro Housing Authority | 420 South Eighth Street | Louisville | KY | 40203 | 69,000
Housing Authority of New Orleans | 4100 Touro Street | New Orleans | LA | 70122 | 69,000
Housing Authority of the City of Shreveport | 2500 Line Avenue | Shreveport | LA | 71104 | 58,440
Jefferson Parish Housing Authority | 1718 Betty Street | Marrero | LA | 70072 | 45,893
Boston Housing Authority | 52 Chauncy Street | Boston | MA | 02111 | 69,000
Brockton Housing Authority | 45 Goddard Road | Brockton | MA | 02303 | 69,000
Fall River Housing Authority | 85 Morgan Street | Fall River | MA | 02722 | 69,000
Framingham Housing Authority | 1 John J. Brady Drive | Framingham | MA | 01702 | 69,000
Holyoke Housing Authority | 475 Maple Street, Suite One | Holyoke | MA | 01040 | 47,744
Lowell Housing Authority | P.O. Box 60, 350 Moody Street | Lowell | MA | 01853 | 65,000
Lynn Housing Authority & Neighborhood Development (LHAND) | 10 Church Street | Lynn | MA | 01902 | 53,074
Malden Housing Authority | 630 Salem Street | Malden | MA | 02148 | 69,000
Somerville Housing Authority | 30 Memorial Road | Somerville | MA | 02145 | 67,465
Worcester Housing Authority | 40 Belmont Street | Worcester | MA | 01605 | 67,465
Hagerstown Housing Authority | 35 West Baltimore Street | Hagerstown | MD | 21740 | 100,125
Housing Authority of Baltimore City | 417 East Fayette Street, Room 923 | Baltimore | MD | 21202 | 69,000
Housing Authority of St. Mary's County, Maryland | 21155 Lexwood Drive, Suite C | Lexington Park | MD | 20653 | 42,008
Housing Authority of Washington County | 319 East Antietam Street, 2nd Floor | Hagerstown | MD | 21740 | 4,440
Housing Commission of Anne Arundel County | 7477 Baltimore Annapolis Boulevard | Glen Burnie | MD | 21060 | 64,890
Housing Opportunities Commission | 10400 Detrick Avenue | Kensington | MD | 20895 | 141,144
Rockville Housing Enterprises | 621A Southlawn Lane | Rockville | MD | 20850 | 23,075
Housing Authority of the City of Brewer | 15 Colonial Circle, Suite 1 | Brewer | ME | 4412 | 52,832
Lewiston Housing Authority | 1 College Street | Lewiston | ME | 4240 | 17,848
Portland Housing Authority | 14 Baxter Boulevard | Portland | ME | 4101 | 19,157
Detroit Housing Commission | 1301 East Jefferson | Detroit | MI | 48207 | 69,000
Muskegon Housing Commission | 1080 Terrace | Muskegon | MI | 49442 | 44,322
Saginaw Housing Commission | 1803 Norman Street | Saginaw | MI | 48605 | 48,675
Housing and Redevelopment Authority of Virginia, MN | 442 Pine Mill Court | Virginia | MN | 55792 | 56,681
Housing Authority of St. Louis Park | 5005 Minnetonka Boulevard | St. Louis Park | MN | 55416 | 18,035
Washington County Housing and Redevelopment Authority | 321 Broadway Avenue | St. Paul Park | MN | 55071 | 29,247
Housing Authority of Kansas City, Missouri | 301 East Armour | Kansas City | MO | 64111 | 54,775
Housing Authority of Saint Charles | 1041 Olive Street | Saint Charles | MO | 63301 | 44,790
Housing Authority of the City of Columbia, MO | 201 Switzer Street | Columbia | MO | 65203 | 52,396
Natchez Housing Authority | 2 Auburn Avenue | Natchez | MS | 39120 | 63,500
The Meridian Housing Authority | 2425 E. Street | Meridian | MS | 39301 | 57,011
Missoula Housing Authority | 1235 34th Street | Missoula | MT | 59801 | 69,000
Burlington Housing Authority | P.O. Box 2380, 133 North Ireland Street | Burlington | NC | 27217 | 58,486
City of Concord Housing Department | P.O. Box 308, 283 Harold Goodman Circle | Concord | NC | 28026 | 48,568
City of Hickory Public Housing Authority | P.O. Box 2927 | Hickory | NC | 28603 | 50,073
Gastonia Housing Authority | P.O. Box 2398, 340 West Long Avenue | Gastonia | NC | 28053 | 51,500
Housing Authority for the City of Greensboro | P.O. Box 21287, 450 North Church Street | Greensboro | NC | 27420 | 63,115
Housing Authority of the City of Asheville | 165 South French Broad Avenue | Asheville | NC | 28801 | 55,000
Housing Authority of the City of Charlotte, N.C | 1301 South Boulevard | Charlotte | NC | 28203 | 65,000
Housing Authority of the City of Greenville | 1103 Broad Street | Greenville | NC | 27834 | 60,371
Housing Authority of the City of High Point | 500 East Russell Avenue | High Point | NC | 27261 | 104,724
Housing Authority of the City of Kinston, North Carolina | 608 North Queen Street | Kinston | NC | 28501 | 46,957
Housing Authority of the City of Wilmington, N.C | 1524 South 16th Street | Wilmington | NC | 28401 | 60,000
Lexington Housing Authority | P.O. Box 1085 | Lexington | NC | 27293 | 58,044
Mid-East Regional Housing Authority | 809 Pennsylvania Avenue | Washington | NC | 27889 | 41,000
North Wilkesboro Housing Authority | P.O. Box 1373, 101 Hickory Street | North Wilkesboro | NC | 28659 | 55,000
Statesville Housing Authority | 110 West Allison Street | Statesville | NC | 28677 | 130,000
The Housing Authority of the City of Durham | 330 East Main Street | Durham | NC | 27701 | 69,000
Fargo Housing and Redevelopment Authority | 325 Broadway | Fargo | ND | 58102 | 51,830
Housing Authority of the City of Lincoln | Lincoln Housing Authority, 5700 R Street | Lincoln | NE | 68505 | 51,856
Kearney Housing Agency | P.O. Box 1236, 2715 Avenue I | Kearney | NE | 68848 | 46,350
Atlantic City Housing Authority and Urban Redevelopment Agency | 227 North Vermont Avenue, 17th Floor | Atlantic City | NJ | 8404 | 58,065
Housing Authority, County of Morris | 99 Ketch Road | Morristown | NJ | 7960 | 36,102
Housing Authority of the Borough of Madison | 24 Central Avenue | Madison | NJ | 7940 | 69,000
Housing Authority of the City of Camden | 2021 Watson Street, 2nd Floor | Camden | NJ | 8105 | 46,683
Housing Authority of the City of Perth Amboy | P.O. Box 390, 881 Amboy Avenue | Perth Amboy | NJ | 8862 | 68,673
Housing Authority of the City of Vineland | 191 West Chestnut Avenue | Vineland | NJ | 8360 | 69,000
The Housing Authority of Plainfield | 510 East Front Street | Plainfield | NJ | 7060 | 69,000
The Newark Housing Authority | 500 Broad Street, 2nd Floor | Newark | NJ | 7102 | 69,000
Clovis Housing & Redevelopment Agency, Inc | P.O. Box 1240, 2101 West Grand Avenue | Clovis | NM | 88101 | 45,020
Housing Authority of the City of Truth or Consequences | 108 Cedar Street | Truth or Consequences | NM | 87901 | 56,227
Santa Fe Civic Housing Authority | 664 Alta Vista Street | Santa Fe | NM | 87505 | 57,585
Santa Fe County Housing Authority | 52 Camino de Jacobo | Santa Fe | NM | 87507 | 56,587
Taos County Housing Authority | Box 4239 NDCBU, 525 Ranchitos Road | Taos | NM | 87571 | 50,256
Housing Authority of the City of Reno | 1525 East 9th Street | Reno | NV | 89512 | 28,214
Southern Nevada Regional Housing Authority (SNRHA) | 340 North 11th Street | Las Vegas | NV | 89101 | 182,804
Buffalo Municipal Housing Authority | 300 Perry Street | Buffalo | NY | 14204 | 69,000
Geneva Housing Authority | P.O. Box 153, 41 Lewis Street | Geneva | NY | 14456 | 65,642
Mechanicville Housing Authority | 1 Harris Avenue | Mechanicville | NY | 12118 | 34,479
Monticello Housing Authority | 76 Evergreen Drive | Monticello | NY | 12701 | 38,789
Municipal Housing Authority of the City of Schenectady | 375 Broadway | Schenectady | NY | 12305 | 57,199
Municipal Housing Authority of the City of Utica, New York | 509 2nd Street, Suite 1 | Utica | NY | 13501 | 68,959
New Rochelle Municipal Housing Authority | 50 Sickles Avenue | New Rochelle | NY | 10801 | 69,000
Rochester Housing Authority | 675 West Main Street | Rochester | NY | 14611 | 66,136
Troy Housing Authority | One Eddy's Lane | Troy | NY | 12180 | 61,995
Akron Metropolitan Housing Authority | 100 West Cedar Street | Akron | OH | 44307 | 131,431
Chillicothe Metropolitan Housing Authority | 178 West Fourth Street | Chillicothe | OH | 45601 | 50,325
Dayton Metropolitan Housing Authority | P.O. Box 8750, 400 Wayne Avenue | Dayton | OH | 45401 | 65,042
Fairfield Metropolitan Housing Authority | 315 North Columbus Street | Lancaster | OH | 43130 | 56,580
Geauga Metropolitan Housing Authority | 385 Center Street | Chardon | OH | 44024 | 63,654
Lorain Metropolitan Housing Authority | 1600 Kansas Avenue | Lorain | OH | 44052 | 64,782
Lucas Metropolitan Housing Authority | 435 Nebraska Avenue | Toledo | OH | 43604 | 55,110
Morgan Metropolitan Housing Authority | 4580 North Street Route 376 North West | McConnelsville | OH | 43758 | 49,849
Springfield Metropolitan Housing Authority | 101 West High Street | Springfield | OH | 45502 | 69,000
Trumbull Metropolitan Housing Authority | 4076 Youngstown Road, S.E., Suite 101 | Warren | OH | 44484 | 50,078
Zanesville Metropolitan Housing Authority | 407 Pershing Road | Zanesville | OH | 43701 | 51,487
Housing Authority of the City of Muskogee | 220 North 40th Street | Muskogee | OK | 74401 | 42,436
Housing Authority of the City of Shawnee, OK | P.O. Box 3427, 601 West Seventh Street | Shawnee | OK | 74804 | 92,148
Housing Authority of the City of Tulsa | 415 East Independence Street | Tulsa | OK | 74106 | 46,712
Housing Authority & Community Services Agency of Lane County | 177 Day Island Road | Eugene | OR | 97401 | 69,000
Housing Authority and Urban Renewal Agency of Polk County, OR | P.O. Box 467, 204 S.W. Walnut | Dallas | OR | 97338 | 15,881
Housing Authority of Portland | 135 Southwest Ash Street | Portland | OR | 97204 | 199,524
Housing Authority of the City of Salem | 360 Church Street S.E. | Salem | OR | 97301 | 69,000
Allegheny County Housing Authority | 625 Stanwix Street, 12th Floor | Pittsburgh | PA | 15222 | 68,428
Altoona Housing Authority | 2700 Pleasant Valley Boulevard | Altoona | PA | 16602 | 56,674
Housing Authority of Northumberland County | 50 Mahoning Street | Milton | PA | 17847 | 53,718
Housing Authority of the City of Pittsburgh | 200 Ross Street | Pittsburgh | PA | 15219 | 47,262
Housing Authority of the City of York | P.O. Box 1963, 31 South Broad Street | York | PA | 17403 | 45,278
Philadelphia Housing Authority (PHA) | 12 South 23rd Street, 6th Floor | Philadelphia | PA | 19103 | 69,000
Westmoreland County Housing Authority | 154 South Greengate Road | Greensburg | PA | 15601 | 60,676
The Housing Authority of the City of Providence | 100 Broad Street | Providence | RI | 2903 | 69,000
Housing Authority of the City of Columbia, SC | 1917 Harden Street | Columbia | SC | 29204 | 48,329
North Charleston Housing Authority | 2170 Ashley Phosphate Road, #700 | North Charleston | SC | 29406 | 50,000
Spartanburg Housing Authority | 201 Caulder Avenue, Suite A | Spartanburg | SC | 29306 | 51,100
The Housing Authority of the City of Greenville | 511 Augusta Street | Greenville | SC | 29605 | 47,206
Chattanooga Housing Authority | 801 North Holtzclaw Avenue | Chattanooga | TN | 37404 | 68,000
Jackson Housing Authority | 125 Preston Street | Jackson | TN | 38301 | 101,268
Kingsport Housing & Redevelopment Authority | P.O. Box 44, 906 East Sevier Avenue | Kingsport | TN | 37662 | 64,174
Memphis Housing Authority | 700 Adams Avenue | Memphis | TN | 38105 | 69,000
Metropolitan Development and Housing Agency | 701 South Sixth Street | Nashville | TN | 37206 | 136,648
Shelbyville Housing Authority | 316 Templeton Street | Shelbyville | TN | 37160 | 49,937
Town of Crossville Housing Authority | P.O. Box 425 | Crossville | TN | 38557 | 56,837
Cameron County Housing Authority | 65 Castellano Circle | Brownsville | TX | 78526 | 52,082
Housing Authority of City of Fort Worth | 1201 East 13th Street | Fort Worth | TX | 76102 | 69,000
Housing Authority of the City of Austin | P.O. Box 6159 | Austin | TX | 78762 | 109,342
Housing Authority of the City of Beaumont | 1890 Laurel | Beaumont | TX | 77701 | 41,330
Housing Authority of the City of Brownsville | P.O. Box 2606 Boca Chica Boulevard | Brownsville | TX | 78521 | 44,283
Housing Authority of the City of El Paso | 5300 East Paisano Drive | El Paso | TX | 79905 | 50,527
Housing Authority of the City of Mission | 1300 East 8th | Mission | TX | 78572 | 68,000
Housing Authority of the City of San Antonio | 818 South Flores Street | San Antonio | TX | 78204 | 413,273
Housing Authority of the City of Waco | P.O. Box 978, 4400 Cobbs Drive | Waco | TX | 76703 | 52,758
Housing Authority of the City of Wichita Falls | 501 Webster | Wichita Falls | TX | 76301 | 48,500
Housing Authority of the County of Hidalgo | 1800 North Texas Boulevard | Weslaco | TX | 78596 | 41,734
Houston Housing Authority | 2640 Fountainview, Suite 400 | Houston | TX | 77054 | 52,518
Robstown Housing Authority | 625 West Avenue F | Robstown | TX | 78380 | 32,136
San Marcos Housing Authority | 1201 Thorpe Lane | San Marcos | TX | 78666 | 51,260
The Housing Authority of the City of Dallas | 3939 North Hampton Road | Dallas | TX | 75212 | 56,440
Housing Authority of the County of Salt Lake | 3595 South Main Street | Salt Lake City | UT | 84115 | 59,652
Alexandria Redevelopment and Housing Authority | 600 North Fairfax Street | Alexandria | VA | 22314 | 69,000
Bristol Redevelopment and Housing Authority | 809 Edmond Street | Bristol | VA | 24201 | 41,843
Chesapeake Redevelopment & Housing Authority | 1468 South Military Highway | Chesapeake | VA | 23320 | 49,359
City of Roanoke Redevelopment & Housing Authority | 2624 Salem Turnpike N.W | Roanoke | VA | 24017 | 110,000
Danville Redevelopment and Housing Authority | 135 Jones Crossing | Danville | VA | 24541 | 47,271
Fairfax Co. Redevelopment and Housing Authority | 3700 Pender Drive, Suite 300 | Fairfax | VA | 22030 | 69,000
Newport News RHA | 227 27th Street | Newport News | VA | 23607 | 48,410
Norfolk Redevelopment and Housing Authority | 201 Granby Street | Norfolk | VA | 23510 | 138,000
Portsmouth Redevelopment & Housing Authority | 801 Water Street, 2nd Floor | Portsmouth | VA | 23704 | 55,340
Richmond Redevelopment and Housing Authority | 901 Chamberlayne Parkway | Richmond | VA | 23220 | 69,000
Suffolk Redevelopment and Housing Authority | 530 East Pinner Street | Suffolk | VA | 23434 | 38,366
Waynesboro Redevelopment and Housing Authority | P.O. Box 1138, 1700 New Hope Road | Waynesboro | VA | 22980 | 44,290
Virgin Islands Housing Authority | 402 Estate Anna's Retreat | St. Thomas | VI | 801 | 69,000
Brattleboro Housing Authority | P.O. Box 2275 | Brattleboro | VT | 5303 | 69,000
Rutland Housing Authority | 5 Tremont Street | Rutland | VT | 5701 | 65,477
Housing Authority of the City of Tacoma | 902 South L Street | Tacoma | WA | 98405 | 59,662
Housing Authority of the City of Vancouver | 2500 Main Street | Vancouver | WA | 98660 | 65,775
King County Housing Authority | 600 Andover Park West | Tukwila | WA | 98188 | 68,861
Seattle Housing Authority | P.O. Box 19028, 120 6th Avenue North | Seattle | WA | 98109 | 69,000
Housing Authority of the City of Milwaukee | P.O. Box 324 | Milwaukee | WI | 53201 | 69,000
Charleston-Kanawha Housing Authority | 1525 Washington Street West | Charleston | WV | 25312 | 36,256
Parkersburg Housing Authority | 1901 Cameron Avenue | Parkersburg | WV | 26101 | 37,598
Housing Authority of the City of Cheyenne | 3304 Sheridan Street | Cheyenne | WY | 82009 | 33,370

[FR Doc. 2011-22872 Filed 9-6-11; 8:45 am]

BILLING CODE 4210-67-P